DEPARTMENT OF AGRICULTURE

Forest Service

Klamath Provincial Advisory Committee (PAC)

AGENCY: Forest Service, USDA.

ACTION: Notice of meeting.

SUMMARY: The Klamath Provincial Advisory Committee will meet on August 13-14, 2003, at Shasta College, 11555 Old Oregon Trail, Redding, California. The meeting will start at 1 p.m. and adjourn at 5 p.m. on August 13, and start at 8 a.m. and adjourn at 12 noon on August 14. Agenda items for the meeting include: (1) Discussion on topics of general interest to the PAC (Implementation Monitoring Field Trips); (2) Stewardship Contracting; (3) Vegetative Treatments in Late Successional Reserves; (4) Burning for Cultural Benefits; and (5) Public Comment Periods. All Provincial Advisory Committee meetings are open to the public. Interested citizens are encouraged to attend.

FOR FURTHER INFORMATION CONTACT: Jan Ford, USDA, Klamath National Forest, 1312 Fairlane Road, Yreka, California 96097; telephone 530-841-4483 (voice), TDD 530-841-4573.

Dated: July 24, 2003.
Margaret J. Boland,
Designated Federal Official, Klamath PAC.

[FR Doc. 03-19476 Filed 7-30-03; 8:45 am]

BILLING CODE 3410-11-M